DEPARTMENT OF COMMERCE

International Trade Administration

[A-533-867]

Welded Stainless Pressure Pipe From India: Rescission of the Antidumping Duty Administrative Review; 2017-2018

AGENCY: Enforcement and Compliance, International Trade Administration, Department of Commerce.

SUMMARY: The Department of Commerce (Commerce) is rescinding the administrative review of the antidumping duty order on welded stainless pressure pipe from India for the period November 1, 2017, through October 31, 2018.

DATES: Applicable May 31, 2019.

FOR FURTHER INFORMATION CONTACT: Stephanie Berger, AD/CVD Operations, Office III, Enforcement and Compliance, International Trade Administration, U.S. Department of Commerce, 1401 Constitution Avenue NW, Washington, DC 20230; telephone: (202) 482-2483.

SUPPLEMENTARY INFORMATION:

Background

On November 1, 2018, Commerce published a notice of opportunity to request an administrative review of the antidumping duty order on welded stainless pressure pipe from India.¹ On November 30, 2018, Commerce received timely requests to conduct an administrative review of the antidumping duty order on welded stainless pressure pipe from India from the following firms: Hindustan Inox Limited (Hindustan) and Bhandari Foils & Tubes Ltd (Bhandari).² Based on these requests, on February 6, 2019, in accordance with section 751(a) of the Tariff Act of 1930, as amended (the Act), Commerce published in the Federal Register a notice of initiation of an administrative review covering the period November 1, 2017, through October 31, 2018.³ On February 7, 2019, Hindustan submitted a timely request to withdraw its request for administrative review.⁴ On February 12, 2019, Bhandari submitted a timely request to withdraw its request for administrative review.⁵

¹ See Antidumping or Countervailing Duty Order, Finding, or Suspended Investigation; Opportunity to Request Administrative Review, 83 FR 54912 (November 1, 2018).

² See Hindustan's letter, “Welded Stainless Pressure Pipe from India: Request for Administrative Review of Anti-Dumping Duty of Hindustan Inox Limited,” dated November 30, 2018; and Bhandari's letter, “Welded Stainless Pressure Pipe from India: Request for Administrative Review of Anti-Dumping Duty of Bhandari Foils & Tubes Ltd.,” dated November 30, 2018.

³ See Initiation of Antidumping and Countervailing Duty Administrative Reviews, 84 FR 2159 (February 6, 2019) (Initiation Notice). Commerce exercised its discretion to toll all deadlines affected by the partial federal government closure from December 22, 2018, through the resumption of operations on January 29, 2019. See memorandum to the Record from Gary Taverman, Deputy Assistant Secretary for Antidumping and Countervailing Duty Operations, performing the non-exclusive functions and duties of the Assistant Secretary for Enforcement and Compliance, “Deadlines Affected by the Partial Shutdown of the Federal Government,” dated January 28, 2019. Accordingly, the Initiation Notice was issued once operations resumed.

⁴ See Hindustan's letter, “Welded Stainless Pressure Pipe from India: Withdrawal of Request for Administrative Review of Anti-Dumping Duty of Hindustan Inox Limited.,” dated February 7, 2019.

⁵ See Bhandari's letter, “Welded Stainless Pressure Pipe from India: Withdrawal of Request for Antidumping Duty Admin Review of Bhandari Foils & Tubes Ltd.,” dated February 12, 2019.

Rescission of Review

Pursuant to 19 CFR 351.213(d)(1), the Secretary will rescind an administrative review, in whole or in part, if the party or parties who requested the review withdraw(s) the request within 90 days of the date of publication of the notice of initiation of the requested review. Hindustan and Bhandari timely withdrew their requests for an administrative review, and no other party requested a review of these companies. As Hindustan and Bhandari are the only two firms upon which Commerce initiated the instant review, we are rescinding this review in its entirety, pursuant to 19 CFR 351.213(d)(1).

Assessment

Commerce will instruct U.S. Customs and Border Protection (CBP) to assess antidumping duties on all appropriate entries of welded stainless pressure pipe at rates equal to the cash deposit of estimated antidumping duties required at the time of entry, or withdrawal from warehouse, for consumption, in accordance with 19 CFR 351.212(c)(1)(i). Commerce intends to issue appropriate assessment instructions to CBP 15 days after the publication of this notice in the Federal Register, if appropriate.

Notification to Importers

This notice serves as a final reminder to importers of their responsibility under 19 CFR 351.402(f)(2) to file a certificate regarding the reimbursement of antidumping and/or countervailing duties prior to liquidation of the relevant entries during this review period. Failure to comply with this requirement could result in Commerce's presumption that reimbursement of the antidumping and/or countervailing duties occurred and the subsequent assessment of doubled antidumping duties.

Notification Regarding Administrative Protective Order

This notice serves as a final reminder to parties subject to an administrative protective order (APO) of their responsibility concerning the return or destruction of proprietary information disclosed under an APO in accordance with 19 CFR 351.305, which continues to govern business proprietary information in this segment of the proceeding. Timely written notification of the return/destruction of APO materials or conversion to judicial protective order is hereby requested. Failure to comply with the regulations and terms of an APO is a violation which is subject to sanction.

This notice is issued and published in accordance with sections 751(a)(1) and 777(i)(1) of the Act, and 19 CFR 351.213(d)(4).

Dated: April 16, 2019.
Gary Taverman,
Deputy Assistant Secretary for Antidumping and Countervailing Duty Operations.

[FR Doc. 2019-11399 Filed 5-30-19; 8:45 am]

BILLING CODE 3510-DS-P